ENVIRONMENTAL PROTECTION AGENCY

[FRL-9610-7]

Notification of Teleconferences of the Science Advisory Board Biogenic Carbon Emissions Panel

AGENCY: Environmental Protection Agency (EPA).

ACTION: Notice.

SUMMARY: The Environmental Protection Agency (EPA or Agency) Science Advisory Board (SAB) Staff Office announces two teleconferences of the SAB Biogenic Carbon Emissions Panel to review EPA's draft Accounting Framework for Biogenic CO2 Emissions from Stationary Sources (September 2011).

DATES: The teleconferences will be held on January 27, 2012 from 2 p.m. to 5 p.m. and March 20, 2012 from 1 p.m. to 4 p.m.

ADDRESSES: The teleconferences will take place by phone only.

FOR FURTHER INFORMATION CONTACT: Any member of the public wishing further information regarding these teleconferences may contact Dr. Holly Stallworth, Designated Federal Officer (DFO), SAB Staff Office, by telephone/voice mail at (202) 564-2073 or via email at stallworth.holly@epa.gov. General information concerning the EPA Science Advisory Board can be found at the EPA SAB Web site at http://www.epa.gov/sab.

SUPPLEMENTARY INFORMATION: Background: The SAB was established pursuant to the Environmental Research, Development, and Demonstration Authorization Act (ERDAA) codified at 42 U.S.C. 4365, to provide independent scientific and technical peer review, advice, consultation, and recommendations to the EPA Administrator on the technical basis for EPA actions. As a Federal Advisory Committee, the SAB conducts business in accordance with the Federal Advisory Committee Act (FACA) (5 U.S.C. App. 2) and related regulations. Pursuant to FACA and EPA policy, notice is hereby given that the SAB Biogenic Carbon Emissions Panel will hold two public teleconferences to discuss draft responses to charge questions on EPA's draft Accounting Framework for Biogenic CO2 Emissions from Stationary Sources (September 2011). The SAB will comply with the provisions of FACA and all appropriate SAB Staff Office procedural policies.

EPA's Office of Atmospheric Programs (OAP) in EPA's Office of Air and Radiation requested SAB review of the draft report and accounting framework. As noticed in 76 FR 61100-61101, the SAB Biogenic Carbon Emissions Panel held a public meeting on October 25-27, 2011, to review and discuss its advice on EPA's draft Accounting Framework for Biogenic CO2 Emissions from Stationary Sources (September 2011). The panel will discuss its draft report during the teleconferences to be held on January 27, 2012 and March 20, 2012.

Availability of the meeting materials: An agenda and draft responses to charge questions will be posted on the SAB Web site (http://yosemite.epa.gov/sab/sabproduct.nsf/fedrgstr_activites/Accounting%20for%20biogenic%20CO2?OpenDocument) prior to each teleconference. EPA's review document, charge to the Panel and other background materials are also available at the URL above. For questions concerning EPA's draft Accounting Framework for Biogenic CO2 Emissions from Stationary Sources (September 2011), please contact Dr. Jennifer Jenkins, Climate Change Division, at jenkins.jennifer@epa.gov or (202) 343-9361 or Sara Ohrel at ohrel.sara@epa.gov or (202) 343-9712.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments for a federal advisory committee to consider pertaining to charge to the panel, EPA review documents, or this advisory activity. Input from the public to the SAB will have the most impact if it consists of comments that provide specific scientific or technical information or analysis for the SAB panel to consider or if it relates to the clarity or accuracy of the technical information.

Oral Statements: In general, individuals or groups requesting an oral presentation at these teleconferences will be limited to three minutes per speaker. Interested parties should contact Dr. Holly Stallworth, DFO, in writing (preferably via email), at the contact information noted above, by January 25, 2012 to be placed on the list of public speakers for the January 27, 2012 teleconference and by March 16, 2012 to be placed on the list of speakers for the March 20, 2012 teleconference. Written Statements: Written statements should be received in the SAB Staff Office by January 25, 2012 to be considered for the January 27, 2012 teleconference and by March 16, 2012 to be considered for the March 20, 2012 teleconference. Written statements should be supplied to the DFO in electronic format via email (acceptable file formats: Adobe Acrobat PDF, WordPerfect, MS Word, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Holly Stallworth at the phone number or email address noted above, preferably at least ten days prior to the meeting, to give EPA as much time as possible to process your request.

Dated: December 16, 2011.
Vanessa T. Vu,
Director, EPA Science Advisory Board Staff Office.

[FR Doc. 2011-33003 Filed 12-22-11; 8:45 am]

BILLING CODE 6560-50-P